SOCIAL SECURITY ADMINISTRATION

[Docket No. SSA 2011-0090]

Privacy Act of 1974, as Amended; Computer Matching Program (Social Security Administration (SSA)/Department of Veterans Affairs (VA), Veterans Benefits Administration (VBA))—Match Number 1008

AGENCY: SSA.

ACTION: Notice of a renewal of an existing computer matching program that expired on May 10, 2012.

SUMMARY: In accordance with the provisions of the Privacy Act, as amended, this notice announces a renewal of an existing computer matching program that we are currently conducting with VA/VBA.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel, SSA, as shown above.

SUPPLEMENTARY INFORMATION:

A. General

The Computer Matching and Privacy Protection Act of 1988 (Pub. L. 100-503) amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dawn S. Wiggins,
Acting Executive Director, Office of Privacy and Disclosure, Office of the General Counsel.

Notice of Computer Matching Program, SSA With the Department of Veterans Affairs (VA), Veterans Benefits Administration (VBA)

A. Participating Agencies

SSA and VA/VBA.

B. Purpose of the Matching Program

The purpose of this matching program is to establish the conditions under which VA will disclose VA compensation and pension payment data to us for the purpose of identifying certain Supplemental Security Income (SSI) and Special Veterans Benefit (SVB) recipients under titles XVI and VIII of the Social Security Act (Act), respectively, who receive VA-administered benefits. This disclosure will also enable us to identify income limits of certain individuals in order to determine their potential eligibility for the Medicare Savings Program to implement a Medicare outreach program mandated by section 1144 of title XI of the Act.

C. Authority for Conducting the Matching Program

The legal authorities for us to conduct this computer matching are sections 806(b), 1144, and 1631(e)(1)(B) and (f) of the Act (42 U.S.C. 1006(b), 1320b-14, and 1383(e)(1)(B) and (f)).

The legal authority for VA to disclose information under this agreement is section 1631(f) of the Act (42 U.S.C. 1383(f)), which requires Federal agencies to provide such information as our Commissioner needs for purposes of determining eligibility for or amount of benefits, or verifying other information with respect thereto.

D. Categories of Records and Persons Covered by the Matching Program

1. Systems of Records

VA will provide us with electronic files containing compensation and pension payment data from its system of records (SOR) entitled the “Compensation, Pension, Education, and Vocational Rehabilitation and Employment Records—VA” (58VA21/22/28), first published at 74 FR 14865 (April 1, 2009).

We will match the VA data with SSI/SVB payment information maintained in our SOR entitled “Supplemental Security Income Record and Special Veterans Benefits (SSA/OASSIS 60-0103).”

2. Number of Records

During the 12-month period from April 2010 through March 2011, we received 14.3 million records from VA, of which 524,470 matched supplemental security records (SSR). We expect the volume of records received from VA to increase in the future. We estimate receiving 84 million records annually from VA in the coming years.

3. Specified Data Elements

We will conduct the match using the Social Security number, name, date of birth, and VA claim number on both the VA file and the SSR.

4. Frequency of Matching

VA will furnish us with an electronic file containing VA compensation and pension payment data monthly. The actual match will take place approximately during the first week of every month.

E. Inclusive Dates of the Matching Program

The effective date of this matching program is May 11, 2012; provided that the following notice periods have lapsed: 30 days after publication of this notice in the Federal Register and 40 days after notice of the matching program is sent to Congress and OMB. The matching program will continue for 18 months from the effective date and may be extended for an additional 12 months thereafter, if certain conditions are met.

[FR Doc. 2012-18109 Filed 7-24-12; 8:45 am]

BILLING CODE 4191-02-P